ENVIRONMENTAL PROTECTION AGENCY

[EPA-HQ-OEJECR-2023-0099; FRL-11361-01-OEJECR]

White House Environmental Justice Advisory Council; Notification of Virtual Public Meeting

AGENCY: Environmental Protection Agency (EPA).

ACTION: Notification of a public meeting.

SUMMARY: Pursuant to the Federal Advisory Committee Act (FACA), the U.S. Environmental Protection Agency (EPA) hereby provides notice that the White House Environmental Justice Advisory Council (WHEJAC) will meet on the date and time described below. Due to unforeseen administrative circumstances, EPA is announcing this meeting with less than 15 calendar days public notice. The meeting is open to the public. The meeting is open to the public. For additional information about registering to attend the meeting or to provide a public comment, please see REGISTRATION under SUPPLEMENTARY INFORMATION. Pre-registration is required.

DATES: The WHEJAC will convene a virtual public meeting on Tuesday, September 26, 2023, from approximately 3 to 8 p.m. EDT. Meeting discussions will focus on several topics including, but not limited to, workgroup activities, proposed recommendations for the Council on Environmental Quality (CEQ) and the White House Environmental Justice Interagency Council (IAC), CEQ briefings, and a new formal charge for the WHEJAC. A public comment period relevant to current WHEJAC charges will be considered by the WHEJAC at the meeting on Tuesday, September 26, 2023, (see SUPPLEMENTARY INFORMATION). Members of the public who wish to participate during the public comment period must register by 11:59 p.m., EDT, Thursday, September 21, 2023.

FOR FURTHER INFORMATION CONTACT: Audrie Washington, WHEJAC Designated Federal Officer, U.S. EPA; email: whejac@epa.gov; telephone: (202) 441-7295. Additional information about the WHEJAC is available at https://www.epa.gov/environmentaljustice/white-house-environmental-justice-advisory-council.

SUPPLEMENTARY INFORMATION: The Charter of the WHEJAC (available at https://www.epa.gov/system/files/documents/2023-03/2023%20White%20House%20Environmental%20Justice%20Advisory%20Council%20Charter.pdf) states that the advisory committee will provide independent advice and recommendations to the Chair of CEQ and to the IAC. The WHEJAC provides advice and recommendations about broad cross-cutting issues related, but not limited, to issues of environmental justice and pollution reduction, energy, climate change mitigation and resiliency, environmental health, and racial inequity. The WHEJAC's efforts include a broad range of strategic, scientific, technological, regulatory, community engagement, and economic issues related to environmental justice.

I. Registration

Individual registration is required for the public meeting. Information on how to register is located at https://www.epa.gov/environmentaljustice/white-house-environmental-justice-advisory-council. Registration for the meeting is available until the scheduled end time of the meeting. Registration to speak during the public comment period will close at 11:59 p.m., EDT, on Thursday, September 21, 2023. When registering, please provide your name, organization, city and state, and email address for follow up. Please also indicate whether you would like to provide public comment during the meeting, or if you are submitting written comments.

A. Public Comment

The WHEJAC is interested in receiving public comments relevant to the following charges, topics, and questions currently under consideration: (1) the Climate and Economic Justice Screening Tool; (2) the Environmental Justice Scorecard; (3) carbon management; (4) ways that the WHEJAC could recommend advancing environmental justice through a whole-of-government approach; and (5) environmental justice issues affecting Indigenous Peoples and Tribal Nations. With respect to environmental justice issues affecting indigenous peoples and tribal nations, the WHEJAC Indigenous Peoples and Tribal Nations Workgroup is particularly interested in receiving comments on: Examples of environmental hazards of particular concern for indigenous peoples and tribal nations (for example, environmental hazards related to Federal activities that may affect sacred sites and areas of cultural significance, cultural or other traditions or practices, subsistence, and ways of life); ways in which the Federal Government can address community impacts on, and concerns of, indigenous peoples and tribal nations; and ways in which the incorporation of indigenous knowledge into Federal decision-making could help address environmental hazards and environmental justice concerns. More information on WHEJAC workgroup charges is located online at: https://www.epa.gov/environmentaljustice/white-house-environmental-justice-advisory-council, under WHEJAC Membership and Workgroups.

Priority to speak during the meeting will be given to public commenters with comments relevant to the topics and questions listed above. Every effort will be made to hear from as many registered public commenters during the time specified on the agenda. Individuals or groups making remarks during the public comment period will be limited to three (3) minutes. Please be prepared to briefly describe your issue and your recommendation relevant to the current charges, topics, and questions under consideration by the WHEJAC. Submitting written comments for the record is strongly encouraged. You can submit your written comments in three different ways: (1) by creating comments in the Docket ID No. EPA-HQ-OEJECR-2023-0099 at https://www.regulations.gov, (2) by using the webform at https://www.epa.gov/environmentaljustice/forms/white-house-environmental-justice-advisory-council-whejac-public-comment, and (3) by sending comments via email to whejac@epa.gov. Written comments can be submitted through October 10, 2023.

B. Information About Services for Individuals With Disabilities or Requiring English Language Translation Assistance

To request special accommodations for a disability or other assistance, please submit your request at least five (5) working days prior to the meeting to give EPA sufficient time to process your request. All requests should be sent to the email listed in the FOR FURTHER INFORMATION CONTACT section.

Matthew Tejada,
Deputy Assistant Administrator for Environmental Justice, Office of Environmental Justice and External Civil Rights.

[FR Doc. 2023-19608 Filed 9-11-23; 8:45 am]

BILLING CODE 6560-50-P